DEPARTMENT OF HOMELAND SECURITY

Federal Emergency Management Agency

Agency Information Collection Activities: Submission for OMB Review; Comment Request

AGENCY: Federal Emergency Management Agency, DHS.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use. This collection was modified during the 60 day comment period to change the type of information collection from an extension, without change, of a currently approved collection, to a revision of a currently approved collection. This change was included to capture the change in burden hour cost to respondents.

Title: FEMA Mitigation Success Story Database.

OMB Number: 1660-0089.

Abstract: FEMA uses the information in the database to document and disseminate first-hand experiences of State, communities, private businesses, and homeowners that incorporate mitigation and flood insurance activities that are cost effective and promote strategic partnerships. By sharing information, communities and individuals can learn about available federal programs to support the implementation of noteworthy local activities.

Affected Public: Individuals or households, Business or other for-profit, Not-for-profit institutions, Farms, Federal Government, and State, Local or Tribal government.

Number of Respondents: 150.

Estimated Time per Respondent: 5.5 hours.

Estimated Total Annual Burden Hours: 563 hours.

Frequency of Response: On occasion.

Comments: Interested persons are invited to submit written comments on the proposed information collection to the Office of Information and Regulatory Affairs, Office of Management and Budget, Attention: Nathan Lesser, Desk Officer, Department of Homeland Security/FEMA, and sent via electronic mail to oira_submission@omb.eop.gov or faxed to (202) 395-6974. Comments must be submitted on or before October 9, 2007.

FOR FURTHER INFORMATION CONTACT: Requests for additional information or copies of the information collection should be made to Chief, Records Management, FEMA, 500 C Street, SW., Room 609, Washington, DC 20472, facsimile number (202) 646-3347, or e-mail address FEMA-Information-Collections@dhs.gov.

Dated: August 30, 2007.
John A. Sharetts-Sullivan,
Chief, Records Management and Privacy Information Resources Management Branch, Information Technology Services Division, Federal Emergency Management Agency, Department of Homeland Security.

[FR Doc. E7-17623 Filed 9-5-07; 8:45 am]

BILLING CODE 9110-11-P